DEPARTMENT OF THE INTERIOR

Bureau of Land Management

[OR-958-1320-FL; HAG-05-0010; WAOR-60818]

Notice of Invitation: Coal Exploration License Application WAOR 60818

AGENCY: Bureau of Land Management, Interior.

ACTION: Notice of invitation.

SUMMARY: Members of the public are invited to participate with Transalta Centralia Mining LLC in its program for the exploration of coal deposits owned by the United States of America in Lewis County, Washington.

ADDRESSES: Comments may be sent to the Bureau of Land Management, Oregon State Office, P.O. Box 2965, Portland, OR 97208.

Documents may be viewed at the Bureau of Land Management, Oregon State Office at 333 SW. 1st Avenue, Portland, Oregon.

FOR FURTHER INFORMATION CONTACT: Denny Seymour, Mining Engineer, at (503) 808-6041 or Tina Seibert, Land Law Examiner, at (503) 808-6166, Bureau of Land Management, Oregon State Office.

SUPPLEMENTARY INFORMATION: Pursuant to section 2(b) of the Mineral Leasing Act of 1920, as amended, by section 4 of the Federal Coal Leasing Amendments Act of 1976, 30 U.S.C. 201(b) (2000), all interested parties are invited to participate with Transalta Centralia Mining LLC in its program for the exploration of coal deposits owned by the United States of America and is described as follows:

Willamette Meridian,

T. 14 N., R. 10 W.,

Sec. 8, E½SW¼.

The area described contains 80.00 acres in Lewis County.

Any party electing to participate in this exploration program shall notify, in writing, both the Oregon/Washington State Director, Bureau of Land Management at the address above and the Transalta Centralia Mining LLC, at 913 Big Hanaford Road, Centralia, Washington 98531. Such written notice must refer to serial number WAOR-60818 and be received no later than March 28, 2005 or 10 calendar days after the last publication of this notice in the Centralia Chronicle newspaper, whichever is later. This notice will be published once a week for two (2) consecutive weeks in the newspaper.

The proposed exploration program is fully described and will be conducted pursuant to an exploration plan to be approved by the Bureau of Land Management. The exploration plan, as submitted by Transalta Centralia Mining LLC, is available for public inspection at the Bureau of Land Management office at the street address above during regular business hours (8:30 a.m. to 4 p.m.), Monday through Friday.

This notice is published in the Federal Register pursuant to 43 CFR 3410.2-1(c)(1).

Dated: October 26, 2004.
Robert D. DeViney, Jr.,
Chief, Branch of Realty and Records Services.

[FR Doc. 05-3629 Filed 2-24-05; 8:45 am]

BILLING CODE 4310-33-P